ENVIRONMENTAL PROTECTION AGENCY

[ER-FRL-9008-8]

Environmental Impacts Statements; Notice of Availability

Responsible Agency: Office of Federal Activities, General Information (202) 564-7146 or http://www.epa.gov/compliance/nepa/.

Weekly receipt of Environmental Impact Statements Filed 04/15/2013 Through 04/19/2013 Pursuant to 40 CFR 1506.9.

Notice

Section 309(a) of the Clean Air Act requires that EPA make public its comments on EISs issued by other Federal agencies. EPA's comment letters on EISs are available at: http://www.epa.gov/compliance/nepa/eisdata.html.

SUPPLEMENTARY INFORMATION: Due to EPA's agency-wide furlough day on Friday, May 24th and the Federal holiday on Monday, May 27th, all EISs must be filed with EPA by Thursday, May 23rd by 5:00 p.m. eastern time for publication under a Notice of Availability in the Federal Register for Friday, May 31st.

EIS No. 20130100, Draft EIS, USACE, CA, Placer Vineyards Specific Plan (SPK-1999-00737), Comment Period Ends: 06/10/2013, Contact: William Ness 916-557-5268.

EIS No. 20130101, Final EIS, BLM, NV, Proposed Sloan Hills Competitive Mineral Material Sales, Review Period Ends: 05/28/2013, Contact: Shonna Dooman 702-515-5174.

EIS No. 20130102, Final EIS, BLM, WY, Gateway West Transmission Line Project, Wyoming and Idaho, Review Period Ends: 06/28/2013, Contact: Walt George 307-775-6116.

EIS No. 20130103, Final EIS, NMFS, 00, Amendment 5 to the Atlantic Herring Fishery Management Plan, Review Period Ends: 05/28/2013, Contact: Carrie Nordeen 978-281-9272.

EIS No. 20130104, Draft EIS, FHWA, AZ, South Mountain Freeway (Loop 202), Interstate 10 (Papago Freeway) to Interstate 10 (Maricopa Freeway), Comment Period Ends: 07/24/2013, Contact: Alan Hansen 602-382-8964.

EIS No. 20130105, Draft EIS, FHWA, TX, US 281 from Loop 1604 to Borgfeld, Comment Period Ends: 07/01/2013, Contact: Mr. Salvador Deocampo 512-536-5950.

EIS No. 20130106, Final EIS, NMFS, 00, Amendment 5a to the 2006 Consolidated Highly Migratory Species Fishery Management Plan, Review Period Ends: 05/28/2013, Contact: Peter Cooper 301-427-8503.

EIS No. 20130107, Final EIS, NRCS, WY, Henrys Fork Salinity Control Project Plan and Irrigation Improvements, Review Period Ends: 05/28/2013, Contact: Astrid Martinez 307-233-6750.

EIS No. 20130108, Final EIS, USA, HI, Construction and Operation of a Platoon Battle Course at Pohakuloa Training Area, Review Period Ends: 05/28/2013, Contact: Linda B. McDowell 210-466-1593.

Dated: April 23, 2013.
Cliff Rader,
Director, NEPA Compliance Division, Office of Federal Activities.

[FR Doc. 2013-09951 Filed 4-25-13; 8:45 am]

BILLING CODE 6560-50-P